DEPARTMENT OF COMMERCE

International Trade Administration

Exemption of Foreign Air Carriers From Excise Taxes; Comprehensive Review of Findings of Reciprocity Eligibility

AGENCY: International Trade Administration, U.S. Department of Commerce.

ACTION: Solicitation of public comments concerning a review undertaken at the request of the U.S. Internal Revenue Service of existing exemptions for aircraft of foreign registry from certain internal revenue taxes on the purchase of supplies in the United States for such aircraft in connection with their international commercial operations.

SUMMARY: Notice is hereby given that, pursuant to section 4221 of the Internal Revenue Code, as amended (26 U.S.C. 4221), the Department of Commerce is undertaking to determine whether the governments of the countries or economies listed herein allow or will allow substantially reciprocal tax exemptions to aircraft of U.S. registry in connection with international commercial operations similar to those exemptions currently granted to or available to aircraft of those countries or economies by the United States under the aforementioned statute. The basis for this undertaking is a request from the U.S. Internal Revenue Service for a comprehensive review of the existing findings to determine whether those countries or economies previously subject to exemptions from certain U.S. internal revenue taxes continue to allow substantially reciprocal tax exemptions to aircraft of U.S. registry.

The above-cited statute provides exemptions for aircraft of foreign registry from payment of certain internal revenue taxes on the purchase of supplies in the United States for such aircraft in connection with their international commercial operations.

These exemptions apply upon a finding by the Secretary of Commerce, or his designee, and communicated to the Department of the Treasury, that such country allows, or will allow, “substantially reciprocal privileges” to aircraft of U.S. registry with respect to purchases of such supplies in that country.

The Department of Commerce proposes that aircraft registered in the following countries or economies be provided exemptions as allowed by section 4221 of the Internal Revenue Code, as amended (26 U.S.C. 4221).

Afghanistan, Albania, Antigua and Barbuda, Argentina, Aruba, Australia, Austria, The Bahamas, Bahrain, Barbados, Belarus, Belgium, Belize, Benin, Bermuda, Bosnia and Herzegovina, Brazil, Brunei Darussalam, Burkina Faso, Burma, Cameroon, Canada, Cape Verde, Chad, Chile, People's Republic of China, Colombia, Democratic Republic of the Congo (only aircraft fuel and lubricants), Cook Islands, Costa Rica, Cote d'Ivoire, Cuba, Czech Republic, Denmark, Dominica, Dominican Republic, Ecuador, Egypt (only aircraft fuel and lubricants), El Salvador, Ethiopia, Fiji, Finland, France, Gabon, The Gambia, Federal Republic of Germany, Ghana, Greece, Grenada, Guatemala, Guyana, Haiti, Honduras, Hong Kong, Hungary, Iceland, India, Indonesia, Iran, Ireland, Israel, Italy, Jamaica, Japan, Jordan, Kazakhstan, Kenya (only aircraft fuel and lubricants), Kiribati, Republic of Korea, Kuwait, Kyrgyzstan, Lebanon, Liberia, Luxembourg, Macau, Madagascar, Malaysia, Maldives, Mali, Malta, Marshall Islands, Mexico, Federated States of Micronesia, Moldova, Montenegro, Morocco, Namibia, Netherlands, Netherlands Antilles, New Zealand, Nicaragua, Nigeria, Norway, Oman, Pakistan, Palau, Panama, Paraguay, Peru, Republic of the Philippines, Poland, Portugal, Qatar, Romania, Russia, Rwanda, St. Kitts and Nevis, St. Lucia, St. Vincent and the Grenadines, Samoa, Saudi Arabia, Senegal, Serbia, Singapore, Slovak Republic, South Africa, Spain, Sri Lanka, Suriname, Sweden, Switzerland, Taiwan, Tajikistan, Tanzania, Thailand, Tonga, Trinidad and Tobago, Tunisia, Turkey, Turkmenistan, Tuvalu, Uganda, Ukraine, United Arab Emirates, United Kingdom, Uruguay, Uzbekistan, Venezuela, Vietnam, Zambia, Zimbabwe.

Interested parties are invited to submit their views, comments and supporting documentation in writing, both in regards to countries and economies listed as well as those that may be not recorded above, concerning this matter to Ms. Ana Guevara, Deputy Assistant Secretary for Services, Room 1128, U.S. Department of Commerce, Washington, DC 20230. Submissions should be sent electronically to OSImail@ita.doc.gov. All submissions should be received no later than thirty days from the date of publication of this notice.

Comments received, with the exception of information marked “business confidential,” will be available for public inspection upon request. Information marked “business confidential” shall be protected from disclosure to the full extent permitted by law.

It is suggested that those desiring additional information contact Mr. Eugene Alford, Office of Service Industries, Room 1104, U.S. Department of Commerce, Washington, DC 20230, or telephone 202-482-5071.

Dated: August 20, 2007.
Carlos Montoulieu,
Acting Deputy Assistant Secretary for Services.

[FR Doc. E7-16823 Filed 8-23-07; 8:45 am]

BILLING CODE 3510-DR-P